DEPARTMENT OF THE INTERIOR

National Park Service

[2253-665]

Notice of Intent To Repatriate Cultural Items: Peabody Museum of Archaeology and Ethnology, Harvard University, Cambridge, MA

AGENCY: National Park Service, Interior.

ACTION: Notice.

Notice is here given in accordance with the Native American Graves Protection and Repatriation Act (NAGPRA), 25 U.S.C. 3005, of the intent to repatriate cultural items in the possession of the Peabody Museum of Archaeology and Ethnology, Harvard University, Cambridge, MA, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

At an unknown date, an iron fish spear, a string of bird bone ornaments, and a segment of bird bone were removed from an Indian grave in Ontonagon, Ontonagon County, MI, by an unknown individual. The string of bird bone ornaments was donated to the Peabody Museum of Archaeology and Ethnology by Mary S. Felton and Dr. Joseph Leidy in 1868. The iron fish spear and segment of bird bone were donated to the Peabody Museum of Archaeology and Ethnology by Mary Felton in 1868.

At an unknown date, a string of glass beads and a mirror were removed from Indian graves in Ontonagon, Ontonagon County, MI, by an unknown individual. These items were donated by Mary S. Felton to the Peabody Museum of Archaeology and Ethnology in 1868.

At an unknown date, a silver trade cross was removed from an Indian grave in Ontonagon, Ontonagon County, MI, by an unknown individual. Mary S. Felton donated this item to the Peabody Museum of Archaeology and Ethnology in 1869.

Museum records indicate that these cultural items were removed from Indian graves in Ontonagon, Ontonagon County, MI. The Peabody Museum is not in possession or control of the human remains from these interments. The presence of trade items, such as the iron fish spear, mirror, glass beads, and silver trade cross, indicates that these interments date to the Historic/Contact period, specifically the late 18th and 19th centuries. Historical documentation indicates that the Ontonagon area was occupied by the Ontonagon Band of Chippewa people during this time period. The present-day tribe that represents the Ontonagon Band of Chippewa is the Keweenaw Bay Indian Community, Michigan.

Officials of the Peabody Museum of Archaeology and Ethnology have determined, pursuant to 25 U.S.C. 3001(3)(B), that the six cultural items described above are reasonably believed to have been placed with or near individual human remains at the time of death or later as part of the death rite or ceremony and are believed, by a preponderance of the evidence, to have been removed from a specific burial site of Native American individuals. Officials of the Peabody Museum of Archaeology and Ethnology also have determined, pursuant to 25 U.S.C. 3001(2), that there is a relationship of shared group identity that can be reasonably traced between the unassociated funerary objects and the Keweenaw Bay Indian Community, Michigan.

Representatives of any other Indian tribe that believes itself to be culturally affiliated with the unassociated funerary objects should contact Patricia Capone, Repatriation Coordinator, Peabody Museum of Archaeology and Ethnology, Harvard University, 11 Divinity Ave., Cambridge, MA 02138, telephone (617) 496-3702, before April 14, 2011. Repatriation of the unassociated funerary objects to the Keweenaw Bay Indian Community, Michigan, may proceed after that date if no additional claimants come forward.

The Peabody Museum of Archaeology and Ethnology is responsible for notifying the Bad River Band of the Lake Superior Tribe of Chippewa Indians of the Bad River Reservation, Wisconsin; Bois Forte Band (Nett Lake) of the Minnesota Chippewa Tribe, Minnesota; Fond du Lac Band of the Minnesota Chippewa Tribe, Minnesota; Grand Portage Band of the Minnesota Chippewa Tribe, Minnesota; Keweenaw Bay Indian Community, Michigan; Lac Courte Oreilles Band of Lake Superior Chippewa Indians of Wisconsin; Lac Vieux Desert Band of Lake Superior Chippewa Indians, Michigan; Leech Lake Band of the Minnesota Chippewa Tribe, Minnesota; Mille Lacs Band of the Minnesota Chippewa Tribe, Minnesota; Red Cliff Band of Lake Superior Chippewa Indians of Wisconsin; St. Croix Chippewa Indians of Wisconsin; Sokaogon Chippewa Community, Wisconsin; and the White Earth Band of the Minnesota Chippewa Tribe, Minnesota, that this notice has been published.

Dated: March 9, 2011.
Sherry Hutt,
Manager, National NAGPRA Program.

[FR Doc. 2011-5870 Filed 3-14-11; 8:45 am]

BILLING CODE 4312-50-P